DEPARTMENT OF THE INTERIOR

National Park Service

Notice of Availability of the Draft General Management Plan Amendment/Draft Environmental Impact Statement for the Dayton Aviation Heritage National Historical Park, OH

SUMMARY: Pursuant to section 102(2)(C) of the National Environmental Policy Act of 1969, the National Park Service announces the availability of the draft general management plan amendment and environmental impact statement (GMPA/EIS) for Dayton Aviation Heritage National Historical Park (DAAV).

DATES: The GMPA/EIS will remain available for public review for 60 days following the publishing of the notice of availability in the Federal Register by the Environmental Protection Agency. Public meetings will be announced through local media.

ADDRESSES: Copies of the GMPA/EIS are available by request by writing to Dayton Aviation Heritage National Historical Park, 30 South Williams Street, Dayton, Ohio 45409, by telephoning 937-225-7705, or by e-mail to daav_superintendent@nps.gov. The document can be found on the Internet on the NPS Planning Web site at: http://parkplanning.nps.gov/publicHome.cfm.

FOR FURTHER INFORMATION CONTACT: Lawrence Blake, Superintendent, Dayton Aviation Heritage National Historical Park, 30 South Williams Street, Dayton, OH 45409, telephone 937-225-7705.

SUPPLEMENTARY INFORMATION: The DAAV consists of four non-contiguous units, the Wright Cycle Company complex, the Paul Laurence Dunbar State Memorial, the John W. Berry, Sr. Wright Brothers Aviation Center at Carillon Historical Park, and the Huffman Prairie Flying Field and Interpretive Center at Wright-Patterson Air Force Base. Together they preserve and interpret resources related to the lives of Wilbur and Orville Wright and Paul Laurence Dunbar, and the invention of flight.

The purpose of the general management plan amendment is to address the need for a maintenance and storage facility for the Wright Cycle Company complex, and the integration of interpretation and activities at Huffman Prairie Flying Field and the Huffman Prairie Flying Field Interpretive Center with security issues at the Wright Patterson Air Force Base. The GMPA/EIS describes and analyzes the environmental impacts of the proposed action and one additional action alternative for the future management direction related to these issues. A no-action alternative is also evaluated.

Our practice is to make comments, including names and home addresses of respondents, available for public review. Individual respondents may request that we withhold their home address from the record, which we will honor to the extent allowable by law. There may also be circumstances where we would withhold from the record a respondent's identity, as allowable by law. If you wish us to withhold your name and/or address, you must state this prominently at the beginning of your comment. However, we will not consider anonymous comments. We will make all submissions from organizations or businesses, and from individuals identifying themselves as representatives or officials or organizations or businesses, available for public inspection in their entirety.

Dated: November 16, 2005.
David N. Given,
Acting Regional Director, Midwest Regional Office.

[FR Doc. E5-8251 Filed 1-3-06; 8:45 am]

BILLING CODE 4310-70-P